DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Union Pacific Railroad Company

[Docket Number FRA-2008-0165]

The Union Pacific Railroad Company (UP) seeks a waiver of compliance from certain provisions of of 49 CFR Part 232, Brake System Safety Standards for Freight and Other Non-Passenger Trains and Equipment. Specifically, UP is requesting a waiver of 49 CFR 232.213, Extended Haul Trains, to the extent necessary to allow UP to operate certain trains up to 1,800 miles between Class I brake inspections. The current regulation restricts extended haul train movements to 1,500 miles.

UP states that if this request is granted, they would utilize it to operate approximately 50 such trains each day. Most of these trains are coal and intermodal trains, along with some automotive trains. UP commits to complying with all other provisions of § 232.213 using qualified UP mechanical inspectors. UP also states that if this waiver is approved, no UP employee in active service at points where train inspections will no longer be performed, due to this waiver, will be furloughed as a result of the waiver. UP claims that they have provided this commitment in writing to the Brotherhood of Railway Carmen. However, UP retains the right to relocate such employees if necessary.

UP believes this request is justified because they experience low defect rates on extended haul trains that are currently operating in coal, intermodal, and automotive service. Of the 15,911 inspections performed on extended haul trains during a three year period, only 0.49 percent of the inspections revealed FRA defects. UP's expanded use of wayside detection technologies has allowed UP to further improve safety by enabling it to identify defects not readily identified by train inspections. Of further note, UP points out that Canadian rail operators have been permitted to operate certain trains from origin to destination within Canada, without undergoing intermediate brake test and train inspections. While this allows Canadian operators to operate some trains distances of more than 2,000 miles without undergoing intermediate inspections, the change has not resulted in adverse safety effects.

UP claims that granting this request will give UP the flexibility it needs to concentrate its train inspections at terminals with greatest resources, which are best equipped to perform inspections in a safe expeditious manner. It would also lead to improved operating efficiencies and increased train velocities. The resulting decrease in en route delays would have the added benefit of allowing train crews to complete their journeys in shorter amounts of time and reduce fuel consumption. UP estimates that if this waiver is granted, they will save approximately 350,000 gallons of fuel annually through the elimination of certain inspections at Elko, NV, Pocatello, ID, and Salt Lake City, UT.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0165) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on January 14, 2009.
Grady C. Cothen, Jr.,
Deputy Associate Administrator for Safety Standards and Program Development.

[FR Doc. E9-1218 Filed 1-21-09; 8:45 am]

BILLING CODE 4910-06-P